NUCLEAR REGULATORY COMMISSION

[Docket Nos. 50-250 and 50-251]

Florida Power and Light Company, Turkey Point Nuclear Generating Units Nos. 3 and 4; Notice of Issuance of Renewed Facility Operating Licenses Nos. DPR-31 and DPR-41 for an Additional 20-Year Period

Notice is hereby given that the U.S. Nuclear Regulatory Commission (the Commission) has issued Renewed Facility Operating Licenses Nos. DPR-31 and DPR-41 to Florida Power and Light Company (the licensee), the operator of the Turkey Point Nuclear Generating Units Nos. 3 and 4 (Turkey Point Units 3 and 4). Renewed Facility Operating License No. DPR-31 authorizes operation of the Turkey Point Unit 3, by the licensee at reactor core power levels not in excess of 2300 megawatts thermal in accordance with the provisions of the Unit 3 renewed license and its Technical Specifications. Renewed Facility Operating License No. DPR-41 authorizes operation of the Turkey Point Unit 4, by the licensee at reactor core power levels not in excess of 2300 megawatts thermal in accordance with the provisions of the Unit 4 renewed license and its Technical Specifications.

The Turkey Point Units 3 and 4 are pressurized water nuclear reactors located in Miami-Dade County east of Florida City, Florida.

The application for the renewed licenses complied with the standards and requirements of the Atomic Energy Act of 1954, as amended (the Act), and the Commission's regulations. The Commission has made appropriate findings as required by the Act and the Commission's regulations in 10 CFR chapter I, which are set forth in each license. Prior public notice of the action involving the proposed issuance of these renewed licenses and of an opportunity for a hearing regarding the proposed issuance of these renewed licenses was published in the Federal Register on October 12, 2000 (65 FR 60693).

For further details with respect to this action, see (1) the Florida Power and Light Company's License Renewal Application for Turkey Point, Units 3 and 4, dated September 8, 2000, as supplemented by letters dated January 19, February 8, February 16, February 26, March 22 (two letters), March 30 (four letters), April 19 (three letters), May 3, May 11 (two letters), May 29 (two letters), June 25, July 18, August 13, November 1, November 7, and December 17, 2001, and April 19, 2002; (2) the Commission's Safety Evaluation Report, dated February 27, 2001, and April 2002 (NUREG-1759), and Supplement 1 thereto, dated May 2002; (3) the licensee's updated final safety analysis report; and (4) the Commission's Final Environmental Impact Statement (NUREG-1437, Supplement 5), dated January 2002. These documents are available at the NRC's Public Document Room, at One White Flint North, 11555 Rockville Pike, first floor, Rockville, Maryland 20852, and can be viewed from the NRC Public Electronic Reading Room at http://www.nrc.gov/NRC/ADAMS/index.html.

Copies of Renewed Facility Operating Licenses Nos. DPR-31 and DPR-41 may be obtained by writing to U.S. Nuclear Regulatory Commission, Washington, DC 20555-0001, Attention: Director, Division of Regulatory Improvement Programs. Copies of the Safety Evaluation Report (NUREG-1759), and Supplement 1 thereto, and the Final Environmental Impact Statement (NUREG-1437, Supplement 5) may be purchased from the National Technical Information Service, Springfield, Virginia 22161-0002 at 1-800-553-6847, (http://www.ntis.gov), or the Superintendent of Documents, U.S. Government Printing Office, P.O. Box 371954, Pittsburgh, PA 15250-7954 at 202-512-1800, (http://www.access.gpo.gov/su_docs). All orders should clearly identify the NRC publication number and the requestor's Government Printing Office deposit account number or VISA or MasterCard number and expiration date.

Dated at Rockville, Maryland, this 6th day of June, 2002.
For the Nuclear Regulatory Commission.
Rajendar Auluck,
Senior Project Manager, License Renewal and Environmental Impacts Program, Division of Regulatory Improvement Programs, Office of Nuclear Reactor Regulation.

[FR Doc. 02-14907 Filed 6-12-02; 8:45 am]

BILLING CODE 7590-01-P